DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 PR 67772-76, dated October 14, 1980, and corrected at 45 FR 69296, October 20, 1980, as amended most recently at 76 FR 66308-66309, dated October 26, 2011) is amended to reflect the reorganization of the Financial Management Office within the Office of the Chief Operating Officer, Centers for Disease Control and Prevention.

Section C-B, Organization and Functions, is hereby amended as follows:

Delete items (1), (2) and (3) of the functional statements for the Financial Management Office (CAJE), and insert the following: (1) Provides leadership and coordination in the development and administration of the Centers for Disease Control and Prevention's (CDC) financial management policies; (2) provides leadership and advice on matters of public health policy, budget formulation, budget and performance integration, and Congressional appropriations for CDC and the Agency for Toxic Substances and Disease Registry (ATSDR); (3) collaborates with the CDC Office of the Director (OD) in the development and implementation of long-range, strategic program and financial plans;

Delete in its entirety the title and functional statements for the Travel Management Activity (CAJE12).

Delete in its entirety the title and functional statements for the Office of Organizational Excellence (CAJE13) and the Office of Formulation, Evaluation, and Analysis (CAJE14) and insert the following:

Office of Management Services (CAJE13). (1) Collaborates and maintains liaison with CDC management officials to monitor and address priority issues of concern to CDC leadership; (2) manages the Financial Management Office's (FMO) operational budget processes, including planning, execution, and monitoring; (3) manages FMO's acquisition processes; (4) analyzes and provides recommendations on workload efficiency and resource utilization; (5) provides direction, strategy, analysis, operational support, and recommendations in matters concerning organizational performance and management services within FMO; (6) coordinates the development of, and maintains, strategic management and performance measurement tools within FMO; (7) monitors FMO organizational performance and provides recommendations on performance improvement; (8) provides management, oversight, and administrative support for FMO service desk operations; (9) provides direction, strategy, analysis, and operational support in all aspects of FMO's human resources operations; (10) provides leading practices in government financial management practices to FMO; (11) develops, implements, and manages recruiting, hiring, retention, and succession strategies; (12) coordinates creation and implementation of operating standards/procedures and processes, and monitors compliance; (13) develops, implements, and manages professional development strategy and plan for FMO; (14) develops and implements FMO's communication strategy and plan; (15) manages the development and communication of financial management policies; (16) serves as FMO's point of contact on all matters concerning facilities management and space utilization; and (17) serves as FMO's coordinator of COOP activities.

Appropriations, Legislation, and Formulation Office (CAJE14). (1) Provides leadership, consultation, guidance, and advice on matters of public health and financial policy; (2) leads all CDC/ATSDR Congressional appropriations activities; (3) develops CDC/ATSDR's annual financial and public health policy request in accordance with DHHS, Office of Management and Budget (OMB), and Congressional requirements, policies, procedures, and regulations; (4) maintains liaison with the DHHS, OMB, other government organizations, and Congress on appropriations and financial policy matters; (5) develops materials for, and participates in, public health policy and financial reviews and hearings before DHHS, OMB, and Congress; (6) collaborates with other parts of CDC, and outside stakeholders, in the development and implementation of agency-wide financial and public health program plans; and (7) provides guidance and advice on the consolidation of budget and performance information as part of CDC's annual budget request.

Delete the functional statements for the Accounting Branch (CAJEB) and the Commercial Payment Branch (CAJEE) and insert the following:

Accounting Branch (CAJEB). (1) Oversees and provides accounting for the Agency; (2) manages accounting treatment for CDC on all business systems implementations and upgrades to current business systems; (3) manages all financial audit reviews for FMO and conducts risk assessment on internal controls; (4) prepares SF 133 Report on Budget Execution for CDC Appropriation and IDDAs, FACTS I and IT Report and Year-End Closing Statement (2108 Report), and SF 224 or their equivalent and all other required financial reports as applicable; (5) prepares, analyzes fluctuations, and coordinates explanation for differences on all required financial statements and notes: (6) performs GPRA reporting analysis for compliance; (7) ensures compliance of Federal and Department reporting requirements; (8) coordinates accounting policy issues with the Department of Health and Human Services (DHHS) Office of Financial Policy and FMO's Office of Management Services; (9) manages Fund Balance with Treasury, including authority, disbursements (payroll and non-payroll), collections, deposit funds and budget clearing accounts; (10) prepares manual and ADI journal vouchers for corrections to the general ledger; (11) performs monthly, quarterly, and year-end close out process of the general ledger; (12) serves as liaison with the Procurements and Grants Office, Buildings and Facilities Offices, Program Offices, and Budget Execution Services on capital asset procedures; (13) manages financial accounting for all assets for CDC, including real and personal property, equipment, land, leases, software, personal property, and stockpiles; (14) conducts financial and inventory reconciliations for all applicable assets, including inventory such as Vaccine for Children and Strategic National Stockpile, real and personal property, equipment, leases, leasehold improvements, land, and others as needed; (15) leads and directs grants management activities within FMO; (16) provides training and assistance to CDC project officers and grants management officials on various financial management aspects of grants; (17) serves as liaison with grantees and other operating divisions for financial questions/inquiries related to grants; (18) manages the process to perform grant processing for commitments, obligations, advances, disbursements, and accruals; (19) manages grants transactions, such as vendor set-up, establishing sub-accounts, Common Accounting Number set-up within the Payment Management System (PMS), reconciling sync file to PMS, and posting files from PMS; (20) conducts grant reviews, monitors rates of expenditure for existing grant awards, and supports Program in grant execution; and (21) records undelivered order adjustments or obligations as needed.

Commercial Payment Branch (CAJEE). (1) Manages all activities, policies, quality control, and audit support for accounts payable and disbursement functions for commercial payments; (2) serves as the CDC subject matter expert on all financial matters dealing with commercial payments; (3) ensures all commercial payments are made in accordance with applicable Federal laws and standards, such as Appropriations Law; (4) serves as liaison with the Department of Treasury, the Centers/Institutes/Offices (CIO's), as well as outside customers, to provide financial information and reconcile commercial payment issues; (5) provides training and advice on commercial payment and disbursement issues; (6) manages transactions related to commercial accounts payable and disbursements; (7) completes all reconciliations of sub-legers to general ledger related to commercial payments; (8) compiles and submits a variety of cash management and commercial reports required by Treasury and various outside agencies; (9) responds to commercial inquiries for invoices and certifies payments; (10) performs Quality Control and Quality Assurance reviews and participates in internal reviews; and (11) assists with undelivered order adjustments or obligations as needed.

Delete in its entirety the title and function statements for the Grants and Asset Management Branch (CAJEK).

After the functional statements for the Budget Execution Branch 6 (CAJES) insert the following:

Travel, IPAC, and International Payment Branch (CAJET). (1) Manages all activities, policies, quality control, and audit support for accounts payable and disbursement functions for travel, IPAC, and international payments; (2) serves as the CDC subject matter expert on all financial matters dealing with all travel, IPAC, and international payments; (3) ensures all travel, IPAC, and international payments are made in accordance with applicable Federal and international laws and standards, such as appropriations law; (4) serves as liaison with the Department of Treasury, the CIOs, as well as outside customers, to provide financial information and reconcile travel, IPAC, and international payment issues; (5) compiles and submits a variety of cash management and travel reports required by the Department of Treasury and various other outside agencies; (6) provides training and advice on payment, travel and disbursement issues; (7) manages transactions related to accounts payable, such as processing cables, reimbursements, IPAC disbursements, and payments for Foreign nationals and visiting fellows; (8) completes all reconciliations of sub-legers to general ledger related to travel, IPAC, and international payments; (9) responds to traveler inquiries for vouchers and certifies payments; (10) manages change of station payment processing; (11) perform quality control and quality assurance reviews; (12) provides expertise, guidance, oversight, and interpretation of policies, laws, rules and regulations for all aspects of travel procedures and policies at CDC, including the use of the automated travel system, local travel, domestic and foreign temporary duty travel, and change of station travel for civil service employees, foreign service employees, commissioned officers, CDC fellows, etc.; (13) communicates and implements departmental travel policies; (14) manages the administrative aspects of travel for the agency, including enforcement of travel card policy, delegation of authority, distribution of cash purchase memos, and approval of first-class memos; (15) serves as liaison with travel provider for travel contract matters; (16) provides the CDC's Emergency Operations Center travel support; and (17) develops CDC conference travel planning and reporting for DHHS and Congress.

Dated: December 22, 2011.
Sherri A. Berger,
Chief Operating Officer, Centers for Disease Control and Prevention.

[FR Doc. 2011-33791 Filed 1-4-12; 8:45 am]

BILLING CODE 4163-18-M